DEPARTMENT OF HEALTH AND HUMAN SERVICES

National Institutes of Health

National Cancer Institute Amended; Notice of Meeting

Notice is hereby given of a change in the meeting of the National Cancer Institute Special Emphasis Panel, July 17, 2019, 08:00 a.m. to 05:00 p.m., Hilton Washington/Rockville Hotel, 1750 Rockville Pike, Rockville, MD 08852 which was published in the Federal Register on May 13, 2019, 84 FR 20900.

This meeting notice is amended to change the name of the meeting from Advancing Cancer Immunotherapy by Mitigating-Immune related adverse events to Advancing Cancer Immunotherapy by Mitigating irAEs. The meeting is closed to the public.

Dated: June 3, 2019.
Melanie J. Pantoja,
Program Analyst, Office of Federal Advisory Committee Policy.

[FR Doc. 2019-11954 Filed 6-6-19; 8:45 am]

BILLING CODE 4140-01-P